DEPARTMENT OF THE INTERIOR

National Park Service

National Register of Historic Places; Notification of Pending Nominations and Related Actions

Nominations for the following properties being considered for listing or related actions in the National Register were received by the National Park Service before September 11, 2010. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by October 14, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

FLORIDA

Leon County

Woman's Working Band House, 648 W Brevard St, Tallahassee, 10000848

KANSAS

Phillips County

Phillipsburg Community Building, (New Deal-Era Resources of Kansas MPS) 425 F St, Phillipsburg, 10000845

Saline County

Coronado Heights, (New Deal-Era Resources of Kansas MPS) 12th and Coronado Heights Rd, Lindsborg, 10000847

Shawnee County

Gordon Building, 900, 902, 904 S Kansas Ave, Topeka, 10000846

MISSOURI

Cape Girardeau County

Cape Girardeau Court of Common Pleas, 44 North Lormier, Cape Girardeau, 10000856

NEW YORK

Monroe County

Harrison, Edward, House, 75 College St, Brockport, 10000854

Suffolk County

Gravesite, Rev. Paul Cuffee, (Cemeteries of the Town of Southampton, 1640-1930) N side of Montauk HWY opposite 216 Montauk HWY, Hampton Bays, 10000852

Ulster County

Lattingtown Baptist Church, 425 Old Indian Rd, Lattingtown, 10000855

Westchester County

Woman's Club of White Plains, 305 Ridgeway, White Plains, 10000853

OREGON

Multnomah County

Irvington Historic District, (Historic Residential Suburbs in the United States, 1830-1960 MPS) Roughly bounded by NE Fremont, NE 27th Ave, NE Broadway, NE 7th Ave, Portland, 10000850

Umatilla County

Central School, 306 SW 2nd Ave, Milton-Freewater, 10000849

SOUTH CAROLINA

Charleston County

Charleston Naval Hospital Historic District, Former Charleston Naval Hospital Historic District, North Charleston, 10000851

[FR Doc. 2010-24363 Filed 9-28-10; 8:45 am]

BILLING CODE 4312-51-P